DEPARTMENT OF ENERGY

Federal Energy Regulatory Commission

[Project No. 2325-077; Project No. 2322-054; Project No. 2574-069]

Notice of Application for Amendment of License To Extend Operational Dates for Volitional Upstream Fish Passage and Soliciting Comments, Motions To Intervene, and Protests; Brookfield White Pine Hydro, LLC, Merimil Limited Partnership

Take notice that the following hydroelectric application has been filed with the Commission and is available for public inspection:

a. Application Type: Amendment of license.

b. Project Nos: P-2325-077, P-2322-054, P-2574-069.

c. Date Filed: March 20, 2018.

d. Applicants: Brookfield White Pine Hydro, LLC, and Merimil Limited Partnership.

e. Name of Projects: Weston, Shawmut, and Lockwood Hydroelectric Projects.

f. Locations: The three projects are located on the Kennebec River in Somerset and Kennebec Counties, Maine.

g. Filed Pursuant to: Federal Power Act, 16 U.S.C. 791a-825r.

h. Applicant Contact: Kelly Maloney, Licensing and Compliance Manager, Brookfield White Pine Hydro, LLC, 150 Main Street, Lewiston, ME 04240; (207) 775-5605.

i. FERC Contact: B. Peter Yarrington (202) 502-6129; peter.yarrington@ferc.gov.

j. Deadline for filing comments, motions to intervene, and protests: 30 Days from the issuance of this notice.

All documents may be filed electronically via the internet. See, 18 CFR 385.2001(a)(1)(iii) and the instructions on the Commission's website at http://www.ferc.gov/docs-filing/efiling.asp. If unable to be filed electronically, documents may be paper-filed. To paper-file, an original and seven copies should be mailed to: Secretary, Federal Energy Regulatory Commission, 888 First Street NE, Washington, DC 20426. Commenters can submit brief comments up to 6,000 characters, without prior registration, using the eComment system at http://www.ferc.gov/docs-filing/ecomment.asp. You must include your name and contact information at the end of your comments.

Please include the docket numbers (P-2325-077, P-2322-054, and P-2574-069, as needed) on any comments, motions, or recommendations filed.

k. Description of Request: Brookfield White Pine Hydro, LLC, licensee for the Weston (P-2325) and Shawmut (P-2322) Projects, and Merimil Limited Partnership, licensee for the Lockwood Project (2574), together request amendment of the Interim Species Protection Plan (Interim SPP) that the Commission approved for the three projects in an order issued May 19, 2016. The Interim SPP identifies measures that will be implemented at the three projects in the years 2013 through 2019 to protect federally-listed endangered Atlantic salmon. Under the Interim SPP and subsequent extensions of time, volitional upstream fish passage facilities are being designed and constructed at the projects, and are to be operational in May 2019 at the Shawmut Project, and in May 2020 at the Weston and Lockwood Projects. In their request, the licensees request that two years be added to the operational dates for those facilities at each project, so that those facilities would be operational in May 2021 at the Shawmut Project, and in May 2022 at the Weston and Lockwood Projects. The licensees request the extension so that they can complete, collaboratively with state and federal resource agencies and other entities, a feasibility assessment of options for multi-dam fish passage which would include but not be limited to options in the Interim SPP.

l. Locations of the Application: A copy of the application is available for review at the Commission in the Public Reference Room, or may be viewed on the Commission's website at http://www.ferc.gov using the eLibrary link. Enter the docket number excluding the last three digits in the docket number field to access the document. For assistance, please contact FERC Online Support at FERCOnlineSupport@ferc.gov, (866) 208-3676 (toll free), or (202) 502-8659 (TTY). A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS; PROTESTS, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 14, 2018.
Kimberly D. Bose,
Secretary.

[FR Doc. 2018-10754 Filed 5-18-18; 8:45 am]

BILLING CODE 6717-01-P